DEPARTMENT OF ENERGY

Federal Energy Regulatory Commission

Combined Notice of Filings #2

Take notice that the Commission received the following exempt wholesale generator filings:

Docket Numbers: EG12-19-000.

Applicants: Minco Wind Interconnection Services, LLC.

Description: Self-Certification of EG of Minco Wind Interconnection Services, LLC.

Filed Date: 12/8/11.

Accession Number: 20111208-5068.

Comments Due: 5 p.m. ET 12/29/11.

Take notice that the Commission received the following electric rate filings:

Docket Numbers: ER10-1484-001.

Applicants: Shell Energy North America (U.S.), L.P.

Description: Supplement to Updated Market Power Analysis for the Northeast Region of Shell Energy North America (US), L.P.

Filed Date: 12/2/11.

Accession Number: 20111202-5183.

Comments Due: 5 p.m. ET 12/23/11.

Docket Numbers: ER11-3953-002.

Applicants: ISO New England Inc., New England Power Pool Participants Committee.

Description: ISO New England Inc. submits tariff filing per 35: Revisions to ISO-NE FAP Compliance Order—Part 1 of 2 to be effective 2/6/2012.

Filed Date: 12/8/11.

Accession Number: 20111208-5053.

Comments Due: 5 p.m. ET 12/29/11.

Docket Numbers: ER11-3953-003.

Applicants: ISO New England Inc., New England Power Pool Participants Committee.

Description: ISO New England Inc. submits tariff filing per 35: Revisions to ISO-NE FAP Compliance Filing—Part 2 of 2 to be effective 5/1/2012.

Filed Date: 12/8/11.

Accession Number: 20111208-5066.

Comments Due: 5 p.m. ET 12/29/11.

Docket Numbers: ER12-275-001.

Applicants: Dynegy Oakland, LLC.

Description: Dynegy Oakland, LLC submits tariff filing per 35.17(b): Request for Deferral of Commission Action to be effective 1/1/2012.

Filed Date: 12/8/11.

Accession Number: 20111208-5085.

Comments Due: 5 p.m. ET 12/29/11.

Docket Numbers: ER12-577-000.

Applicants: Burley Butte Wind Park, LLC.

Description: Burley Butte Wind Park, LLC submits tariff filing per 35: Burley Butte Category 2 Compliance Filing to be effective 12/6/2011.

Filed Date: 12/7/11.

Accession Number: 20111207-5187.

Comments Due: 5 p.m. ET 12/28/11.

Docket Numbers: ER12-578-000.

Applicants: Midwest Independent Transmission System Operator, Inc.

Description: Midwest Independent Transmission System Operator, Inc. submits tariff filing per 35.13(a)(2)(iii: 12-08-11 BREC Attachment O Deletion to be effective 1/1/2012.

Filed Date: 12/8/11.

Accession Number: 20111208-5086.

Comments Due: 5 p.m. ET 12/29/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2011.
Nathaniel J. Davis, Sr.,
Deputy Secretary.

[FR Doc. 2011-32153 Filed 12-14-11; 8:45 am]

BILLING CODE 6717-01-P